DEPARTMENT OF VETERANS AFFAIRS

Privacy Act of 1974; System of Records

AGENCY: Department of Veterans Affairs (VA).

ACTION: Notice of Amendment to System of Records.

SUMMARY: As required by the Privacy Act of 1974, 5 U.S.C. 552a(e), notice is hereby given that the Department of Veterans Affairs (VA) is amending the system of records currently entitled “Veterans Health Information Systems and Technology Architecture (VistA) Records-VA” (79VA19) as set forth in the Federal Register 75 FR 4454. VA is amending the system by revising the System Number, and Routine Uses of Records Maintained in the System.

DATES: Comments on the amendment of this system of records must be received no later than December 5, 2012. If no public comment is received, the amended system will become effective December 5, 2012.

ADDRESSES: Written comments may be submitted through www.regulations.gov; by mail or hand-delivery to Director, Regulations Management (02Reg), Department of Veterans Affairs, 810 Vermont Avenue NW., Room 1068, Washington, DC 20420; or by fax to (202) 273-9026. Comments received will be available for public inspection in the Office of Regulation Policy and Management, Room 1063B, between the hours of 8:00 a.m. and 4:30 p.m., Monday through Friday (except holidays). Please call (202) 461-4902 (this is not a toll-free number) for an appointment. In addition, during the comment period, comments may be viewed online through the Federal Docket Management System (FDMS) at www.regulations.gov.

FOR FURTHER INFORMATION CONTACT: Veterans Health Administration (VHA) Privacy Act Officer, Department of Veterans Affairs, 810 Vermont Avenue NW., Washington, DC 20420; telephone (704) 245-2492.

SUPPLEMENTARY INFORMATION: The system number is changed from 79VA19 to 79VA10P2 to reflect the current organizational alignment.

Routine use twenty-eight (28) is added to state that VA may disclose relevant provider information to a state prescription drug monitoring program, or similar program, for the purpose of submitting to or receiving from the program information regarding prescriptions to an individual for controlled substances, as required under the applicable state law. This routine use will allow VA to participate in state prescription drug monitoring program (PMDP) for monitoring narcotics.

The Report of Intent to Amend a System of Records Notice and an advance copy of the system notice have been sent to the appropriate Congressional committees and to the Director of the Office of Management and Budget (OMB) as required by the Privacy Act, 5 U.S.C. 552a(r), and guidelines issued by OMB, 65 FR 77677 (Dec. 12, 2000).

Approved: October 12, 2012.
John R. Gingrich,
Chief of Staff, Department of Veterans Affairs.

79VA10P2

SYSTEM NAME:

Veterans Health Information Systems and Technology Architecture (VistA) Records-VA

ROUTINE USES OF RECORDS MAINTAINED IN THE SYSTEM, INCLUDING CATEGORIES OF USERS AND THE PURPOSES OF SUCH USES:

* * * * *

28. VA may disclose relevant provider information to a state prescription drug monitoring program, or similar program, for the purpose of submitting to or receiving from the program information regarding prescriptions to an individual for controlled substances, as required under the applicable state law.

[FR Doc. 2012-26804 Filed 10-30-12; 8:45 am]

BILLING CODE 8320-01-P